DEPARTMENT OF TRANSPORTATION

Coast Guard

[USCG-2000-7848]

Inland Tank Barge Certificates of Inspection; Administrative Changes

AGENCY: Coast Guard, DOT.

ACTION: Notice of pilot program.

SUMMARY: A one-year cooperative pilot program will be implemented to test administrative changes to inland tank barge Certificates of Inspection (COI). The tank barge COI pilot program initiative is based on a Chemical Transportation Advisory Committee (CTAC) recommendation.

DATES: A one-year cooperative pilot program will be implemented with the Marine Safety Office New Orleans and American Commercial Barge Lines. The pilot program will commence on September 1, 2000.

FOR FURTHER INFORMATION CONTACT: For questions on this notice, contact Lieutenant Greg Herold, U.S. Coast Guard Headquarters, 2100 Second Street SW., Washington, DC 20593-0001, telephone: 202-267-0084, facsimile: 202-267-4570, e-mail: GHerold@comdt.uscg.mil.

SUPPLEMENTARY INFORMATION:

Request for Comments

We are not requesting comments at this time. At the conclusion of the pilot program, if it is deemed successful, the Coast Guard will develop a Notice of Proposed Rulemaking (NPRM) and publish it in the Federal Register. We will solicit comments on any proposed regulatory changes at that time.

Background and Purpose

Currently, tank barges are required to include on their Certificate of Inspection (COI) an endorsement stating the authorized grade of cargo under 46 CFR 31.05-1(b) for flammable or combustible cargoes, and/or a list of authorized cargo names, loading constraints and operating limitations under 46 CFR 151.04-1(c) and 46 CFR 151.10-15, for bulk liquid hazardous material cargoes. A typical chemical tank barge on inland service may be authorized to transport over one hundred cargoes. Listing each of these cargoes on the vessel's COI, along with other required endorsements, results in an awkward document that can amount to eight or more pages in length. Additionally, cargo endorsements on the COI include information such as Chemical Hazards Response Information System (CHRIS) codes, cargo containment types, and International Maritime Organization (IMO) pollution categories, which are extraneous to the COI and at times confusing to tank barge personnel.

Evaluation of the COI format and content currently used for chemical tank barges, subject to the requirements of 46 CFR subchapter O, was implemented as part of an initiative by the Prevention Through People (PTP) Subcommittee of the Chemical Transportation Advisory Committee (CTAC). The Subcommittee reviewed the current document with the following basic goals in mind:

• To assess the value of the written requirements included on the COI to the tankerman,

• To determine how useful and easily understood the requirements are, and

• To make recommendations for improvements as necessary.

As a result of their work, one of the PTP Subcommittee's recommendations was to remove the cargo information and conditions of carriage from the COI, and place it in a separate Bulk Liquid Cargo Authority document. The Bulk Liquid Cargo Authority document would be maintained as a mandatory attachment to the vessel's cargo transfer procedures, which are required to be kept aboard the vessel by 33 CFR 155.740(c). Instead of endorsing the COI with a list of cargoes, one COI endorsement would reference the Bulk Liquid Cargo Authority document by its U.S. Coast Guard Marine Safety Center (MSC) date of issue.

The change would constitute a significant improvement to the current COI by reducing its length and improving the format, content and location of the authorized cargo information. It would also eliminate duplicative work in cargo data entry performed by the MSC and the local Marine Safety Offices (MSO), and streamline the process for generating COIs.

Pilot Program

The pilot program will assess the addition of a new Bulk Liquid Cargo Authority document produced by the U.S. Coast Guard Marine Safety Center (MSC) to be attached to the required cargo transfer procedures. The document will include certain required chemical cargo endorsements from the inland tank barge COI. The document is similar to those produced for chemical tankships under 46 CFR 153. If the pilot program is successful, it will result in a shortened COI with a more detailed and user-friendly cargo transfer procedures.

The one-year cooperative pilot program is proposed to evaluate the recommendations from the CTAC for streamlining tank barge COIs. American Commercial Barge Lines (ACBL) has agreed to participate in the pilot program with a specified number of barges from their fleet. All COIs will be issued under the cognizance of the Officer in Charge, Marine Inspection, New Orleans, LA, who has also agreed to participate in the pilot program. A COI endorsement will be added identifying those barges participating in the pilot program and directing any specific inquiries about the program to MSO New Orleans.

Access to the cargo authority and conditions of carriage information for all vessels enrolled in the program will be available by contacting the MSO New Orleans 24-hr manned Communications Center, through the MSC's Cargo Division (MSC-3) during working hours, or the MSC's Cargo Division Duty Officer after hours.

Evaluation and Implementation

The pilot program will be evaluated based on the goals and expected outcomes of the program envisioned by CTAC.

The evaluation criteria include:

• Ease of use/“user friendliness” of new COI,

• Relevance of COI information,

• Savings/loss of time compared to existing COI format, and

• Assessment of new Bulk Liquid Cargo Authority document.

If the pilot program is deemed successful, a Notice of Proposed Rulemaking will be developed to give the public an opportunity to comment on the proposed nationwide program. If implemented, we envision that each tank barge will receive a COI, following a successful inspection for certification, in the new format at the time their COI is due for reissue, along with the associated Bulk Liquid Cargo Authority document.

Dated: August 28, 2000.
R.C. North,
Assistant Commandant for Marine Safety and Environmental Protection.

[FR Doc. 00-22315 Filed 8-30-00; 8:45 am]

BILLING CODE 4910-15-P